DEPARTMENT OF HOUSING AND URBAN DEVELOPMENT

[Docket No. FR-5044-N-16]

Notice of Submission of Proposed Information Collection to OMB: Energy Conservation for PHA-Owned or Leased Projects—Audits, Utility Allowances

AGENCY: Office of the Chief Information Officer, HUD.

ACTION: Notice.

SUMMARY: The proposed information collection requirement described below will be submitted to the Office of Management and Budget (OMB) for review, as required by the Paperwork Reduction Act. The Department is soliciting public comments on the subject proposal.

Public Housing Agencies (PHAs) are required to establish allowances for PHA-furnished utilities and for resident-purchased utilities. PHAs document, and provide for resident inspection, the basis upon which allowances and scheduled surcharges (and revisions thereof) are established. PHAs complete energy audits, benefit/cost analyses for individual vs. mastermetering. PHAs review tenant utility allowances. HUD is seeking reinstatement of the approval to collect this information.

The Department is soliciting public comments on the subject proposal.

DATES: Comments Due Date: November 13, 2006.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000; e-mail Aneita_L._Waites@HUD.gov. This is not a toll-free number. Copies of the proposed forms and other available documents may be obtained from Ms. Waites.

FOR FURTHER INFORMATION CONTACT: Aneita Waites, (202) 708-0713, extension 4114, for copies of the proposed forms and other available documents. (This is not a toll-free number).

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Energy Conservation for PHA-Owned or Leased Projects—Audits, Utility Allowances.

OMB Approval Number: 2577-0062.

Form Numbers: None.

Description of the Need for the Information and Its Proposed Use: In support of national energy conservation goals, Public Housing Agencies (PHAs) establish allowances for PHA-furnished utilities and for resident-purchased utilities. PHAs document, and provide for resident inspection, the basis upon which allowances and scheduled surcharges (and revisions thereof) are established. PHAs complete energy audits, benefit/cost analyses for individual vs. mastermetering. PHAs review tenant utility allowances.

Respondents: PHAs with PHA-owned or Leased Projects.

Frequency of Submission: Annually.

| Number of respondents | Annual responses | × | Hours per response | = | Burden hours
Reporting Burden | 3400 | 3400 |  | 3.9 |  | 13,268

Total Estimated Burden Hours: 13,268.

Status: Extension of a currently approved collection.

Authority: Section 3507 of the Paperwork Reduction Act of 1995, 44 U.S.C. 35, as amended.

Dated: September 1, 2006.
Merrie Nichols-Dixon,
Acting Deputy Assistant Secretary, 0ffice of Policy, Program and Legislative Initiatives.

[FR Doc. E6-14919 Filed 9-8-06; 8:45 am]

BILLING CODE 4210-67-P